NEIGHBORHOOD REINVESTMENT CORPORATION

Sunshine Act; Regular Board of Directors Meeting

Time and Date: 1:00 p.m., Tuesday, April 18, 2017.

Place: NeighborWorks America—Gramlich Boardroom, 999 North Capitol Street NE., Washington, DC 20002.

Status: Open (with the exception of Executive Sessions).

Contact Person: Jeffrey Bryson, EVP & General Counsel/Secretary, (202) 760-4101; jbryson@nw.org.

Agenda:

I. CALL TO ORDER

II. Approval of Minutes

III. Executive Session: Report From CEO

IV. Executive Session: Performance Evaluations of Officers

V. Executive Session: WeConnect Update

VI. Grants to Capital Corporations

VII. Budget Update

VIII. CounselorMax

IX. Corporate Goals

X. Management Program Backgrounds and Updates

IX. Adjournment

The General Counsel of the Corporation has certified that in his opinion, one or more of the exemptions set forth in 5 U.S.C. 552 (b)(2) and (4) permit closure of the following portion(s) of this meeting:

• Report from CEO

• Performance Evaluations of Officers

• WeConnect Update

Jeffrey T. Bryson,
EVP & General Counsel/Corporate Secretary.

[FR Doc. 2017-07537 Filed 4-11-17; 11:15 am]

BILLING CODE 7570-02-P